FEDERAL MARITIME COMMISSION

Sunshine Act Meetings; Withdrawal

AGENCY: Federal Maritime Commission

ACTION: Notice; withdrawal.

SUMMARY: The Federal Maritime Commission published a document in the Federal Register of April 17, 2023 concerning the Sunshine Act Meetings for our April 19, 2023 Commission Meeting. The April 17, 2023 document contained dates and information for the meeting that was rescheduled.

FOR FURTHER INFORMATION CONTACT: William Cody, 202-523-5725.

SUPPLEMENTARY INFORMATION:

Withdrawal

This action withdraws the notice in the Federal Register of April 17, 2023, FR Doc. 2023-07907, at 88 FR 23422 concerning Sunshine Act Meetings.

The Sunshine Act Meeting was rescheduled to May 3, 2023 by the Commission.

Dated: April 18, 2023.
William Cody,
Secretary.

[FR Doc. 2023-08655 Filed 4-20-23; 4:15 pm]

BILLING CODE 6730-02-P